SMALL BUSINESS ADMINISTRATION

[Disaster Declaration #15232 and #15233; IOWA Disaster Number IA-00071]

Administrative Declaration of a Disaster for the State of Iowa

AGENCY: U.S. Small Business Administration.

ACTION: Notice.

SUMMARY: This is a notice of an Administrative declaration of a disaster for the State of Iowa dated 08/03/2017.

DATES: Issued on 08/03/2017.

Physical Loan Application Deadline Date: 10/02/2017.

Economic Injury (EIDL) Loan Application Deadline Date: 05/03/2018.

ADDRESSES: Submit completed loan applications to: U.S. Small Business Administration, Processing and Disbursement Center, 14925 Kingsport Road, Fort Worth, TX 76155.

FOR FURTHER INFORMATION CONTACT:

A. Escobar, Office of Disaster Assistance, U.S. Small Business Administration, 409 3rd Street SW., Suite 6050, Washington, DC 20416, (202) 205-6734.

SUPPLEMENTARY INFORMATION: Notice is hereby given that as a result of the Administrator's disaster declaration, applications for disaster loans may be filed at the address listed above or other locally announced locations.

Incident: Severe Weather, Tornadoes, High Winds, Heavy Rains, Flash Flooding and Riverine Flooding.

Incident Period: 07/19/2017 through 07/23/2017.

The following areas have been determined to be adversely affected by the disaster:

Primary Counties: Bremer

Contiguous Counties:

Iowa: Black Hawk, Buchanan, Butler, Chickasaw, Fayette, Floyd

The Interest Rates are:

| Percent
For Physical Damage:
Homeowners with Credit Available Elsewhere | 3.500
Homeowners without Credit Available Elsewhere | 1.750
Businesses with Credit Available Elsewhere | 6.610
Businesses without Credit Available Elsewhere | 3.305
Non-Profit Organizations with Credit Available Elsewhere | 2.500
Non-Profit Organizations without Credit Available Elsewhere | 2.500
For Economic Injury:
Businesses & Small Agricultural Cooperatives without Credit Available Elsewhere | 3.305
Non-Profit Organizations without Credit Available Elsewhere | 2.500

The number assigned to this disaster for physical damage is 15232 6 and for economic injury is 15233 0.

The State which received an EIDL Declaration # is Iowa.

(Catalog of Federal Domestic Assistance Number 59008)

Dated: August 3, 2017.
Linda E. McMahon,
Administrator.

[FR Doc. 2017-16955 Filed 8-10-17; 8:45 am]

BILLING CODE 8025-01-P